DEPARTMENT OF COMMERCE

National Oceanic and Atmospheric Administration

[I.D. 011806G]

Marine Mammals; File No. 918-1820

AGENCY: National Marine Fisheries Service (NMFS), National Oceanic and Atmospheric Administration (NOAA), Commerce.

ACTION: Notice; issuance of permit.

SUMMARY: Notice is hereby given that Squalus, Inc., P.O. Box 301, Myakka City, FL 34251 [Marco Peters, Responsible Party] has been issued a permit to import four South American (Patagonian) sea lions (Otaria flavescens) for public display.

ADDRESSES: The permit and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, Saint Petersburg, FL 33701; phone (727) 824-5312; fax (727) 824-5309.

FOR FURTHER INFORMATION CONTA CT: Kate Swails or Jennifer Skidmore, (301) 713-2289.

SUPPLEMENTARY INFORMATION: On November 23, 2005, notice was published in the Federal Register (70 FR 70788) that a request for a public display permit to import one male and three female, captive-born, juvenile sea lions from Park Atlantis, Mexico City, Mexico to Squalus' facilities in Myakka City, Florida had been submitted by the above-named organization. The requested permit has been issued under the authority of the Marine Mammal Protection Act of 1972, as amended (16 U.S.C. 1361 et seq.), the Regulations Governing the Taking and Importing of Marine Mammals (50 CFR part 216).

In compliance with the National Environmental Policy Act of 1969 (42 U.S.C. 4321 et seq.), a determination was made that the permitted activity is categorically excluded from the requirement to prepare an environmental assessment or environmental impact statement.

Dated: January 30, 2006.
Stephen L. Leathery,
Chief, Permits, Conservation and Education Division, Office of Protected Resources, National Marine Fisheries Service.

[FR Doc. E6-1591 Filed 2-6-06; 8:45 am]

BILLING CODE 3510-22-S